DEPARTMENT OF STATE

[Public Notice: 10786]

Bureau of Political-Military Affairs; Statutory Debarment Under the Arms Export Control Act and the International Traffic in Arms Regulations

AGENCY: Department of State.

SUMMARY: Notice is hereby given that the Department of State has imposed statutory debarment under the International Traffic in Arms Regulations (“ITAR”) on persons convicted of violating, or conspiracy to violate, section 38 of the Arms Export Control Act (AECA).

DATES: Debarment imposed as of June 6, 2019.

FOR FURTHER INFORMATION CONTACT: Jae E. Shin, Director, Office of Defense Trade Controls Compliance, Bureau of Political-Military Affairs, Department of State. (202) 632-2107.

SUPPLEMENTARY INFORMATION: Section 38(g)(4) of the AECA, 22 U.S.C. 2778(g)(4), restricts the Department of State from issuing licenses for the export of defense articles or defense services where the applicant, or any party to the export, has been convicted of violating certain statutes, including section 38 of the AECA. The Department refers to this restriction as a limitation on “export privileges,” and implements it through section 127.11 of the ITAR. The statute and regulations permit the President to make certain exceptions to the restriction on export privileges on a case-by-case basis. Section 127.7(b) of the ITAR also provides for “statutory debarment” of any person who has been convicted of violating or conspiring to violate the AECA. Under this policy, persons subject to statutory debarment are prohibited from participating directly or indirectly in any activities that are regulated by the ITAR.

Statutory debarment is based solely upon conviction in a criminal proceeding, conducted by a United States court, and as such the administrative debarment procedures outlined in part 128 of the ITAR are not applicable.

It is the policy of the Department of State that statutory debarment as described in section 127.7 of the ITAR lasts for a three year period following the date of conviction. Reinstatement from the policy of statutory debarment is not automatic, and in all cases the debarred person must submit a request to the Department of State and be approved for reinstatement from statutory debarment before engaging in any activities subject to the ITAR.

Department of State policy permits debarred persons to apply to the Director, Office of Defense Trade Controls Compliance, for reinstatement from statutory debarment beginning one year after the date of the debarment. In response to a request for reinstatement from statutory debarment, the Department may determine to rescind the statutory debarment pursuant to section 127.7(b), or rescind the statutory debarment policy pursuant to section 127.7(b) and reinstate export privileges as described in section 127.11 of the ITAR. See 84 FR 7,411 for discussion on the Department's policy regarding reinstatement of export privileges and rescission of statutory debarment. The reinstatement of export privileges can be made only after the statutory requirements of section 38(g)(4) of the AECA have been satisfied.

Certain exceptions, known as transaction exceptions, may be made to this debarment determination on a case-by-case basis. However, such an exception would be granted only after a full review of all circumstances, paying particular attention to the following factors: Whether an exception is warranted by overriding U.S. foreign policy or national security interests; whether an exception would further law enforcement concerns that are consistent with the foreign policy or national security interests of the United States; or whether other compelling circumstances exist that are consistent with the foreign policy or national security interests of the United States, and that do not conflict with law enforcement concerns. Even if exceptions are granted, the debarment continues until subsequent reinstatement from statutory debarment.

Pursuant to section 38(g)(4) of the AECA and section 127.7(c) of the ITAR, the following persons, having been convicted in a U.S. District Court, are denied export privileges and are statutorily debarred as of the date of this notice (Name; Date of Judgment; Judicial District; Case No.; Month/Year of Birth):

(1) Acosta-Moctezuma, Rogelio; May 22, 2018; Southern District of Texas; 7:16-cr-00712; December, 1978.

(2) Arredondo, Arnoldo Antonio; December 19, 2017; Southern District of Texas; 7:16-cr-00712; November, 1968.

(3) Barbieri, Frederik; July 20, 2018; Southern District of Florida; 1:18-cr-20060; July, 1971.

(4) Campos-Flores, Jose Jesus; October 16, 2017; District of Arizona; 4:17-cr-00159; December, 1995.

(5) De La Rosa, Juan Jesus; September 12, 2018; Southern District of Texas; 7:15-cr-00289; October, 1990.

(6) Inzunza, Shirley Trinity; January 22, 2018; District of Arizona; 4:16-cr-01503; January, 1994.

(7) Lerma, Luis Manuel; January 25, 2018; Southern District of Texas; 7:16-cr-00712; September, 1993.

(8) Luque, Barbara Jo; January 10, 2019; District of Arizona; 4:17-cr-01221; May, 1957.

(9) Morgovsky, Irina; November 5, 2018; Northern District of California; 3:16-cr-00411; August, 1951.

(10) Morgovsky, Naum; December 13, 2018; Northern District of California; 3:16-cr-00411; September, 1949.

(11) Nedoviz, Volodymyr; January 11, 2018; Eastern District of New York; 1:17-cr-00338; August, 1984.

(12) Padilla-Cruz, Ledis Omar (a.k.a. Omar Padilla); March 6, 2018; Western District of North Carolina; 3:17-cr-00233; January, 1979.

(13) Roberts, John Parker; December 14, 2017; Middle District of Tennessee; 3:16-cr-00199; January, 1990.

(14) Rezvanov, Eldar: July 24, 2018; Eastern District of Virginia; 1:18-cr-00206; May, 1990.

(15) Sydykov, Tengiz T.; January 11, 2019; Eastern District of Virginia; 1:18-cr-00212; June, 1989.

(16) Vazquez, Eduard Roel; April 16, 2018; Southern District of Texas; 7:17-cr-01768; June, 1992.

(17) Verma, Bharat; August 24, 2018; Northern District of Illinois; 1:15-cr-00018; July, 1940.

(18) Verma, Urvashi; August 24, 2018; Northern District of Illinois; 1:15-cr-00018; November, 1974.

(19) Vibgyor Optical Systems, Inc.; August 24, 2018; Northern District of Illinois; 1:15-cr-00018.

(20) Vlachos, Alexis; September 4, 2018; 2:15-cr-00006; District of Vermont; March, 1977.

(21) Wilson, Cory (a.k.a Jason Cory Wilson); January 11, 2018; Middle District of Tennessee; 3:16-cr-00199; July, 1974.

(22) Yassine, Fadi; August 3, 2017; Northern District of Iowa; 1:17-cr-00011; October, 1974.

(23) Zannoni, Giovanni; February 22, 2018; Eastern District of New York; 1:17-cr-00565; May, 1982.

At the end of the three-year period following the date of this notice, the above named persons/entities remain debarred unless a request for reinstatement from statutory debarment is approved by the Department of State.

Debarred persons are generally ineligible to participate in activity regulated under the ITAR (see e.g., sections 120.1(c) and (d), and 127.11(a)). Also, under section 127.1(d) of the ITAR, any person who has knowledge that another person is subject to debarment or is otherwise ineligible may not, without disclosure to and written approval from the Directorate of Defense Trade Controls, participate, directly or indirectly, in any ITAR-controlled transaction where such ineligible person may obtain benefit therefrom or have a direct or indirect interest therein.

This notice is provided for purposes of making the public aware that the persons listed above are prohibited from participating directly or indirectly in activities regulated by the ITAR, including any brokering activities and any export from or temporary import into the United States of defense articles, technical data, or defense services in all situations covered by the ITAR. Specific case information may be obtained from the Office of the Clerk for the U.S. District Courts mentioned above and by citing the court case number where provided.

Stanley L. Brown,
Senior Bureau Official, Bureau of Political Military Affairs, U.S. Department of State.

[FR Doc. 2019-11901 Filed 6-5-19; 8:45 am]

BILLING CODE 4710-25-P